NATIONAL ARCHIVES AND RECORDS ADMINISTRATION

Privacy Act of 1974; Transfer of Records

AGENCY: National Archives and Records Administration (NARA).

ACTION: Notice of transfer of records subject to the Privacy Act to the National Archives.

SUMMARY: Records retrievable by personal identifiers which are transferred to the National Archives of the United States are exempt from most provisions of the Privacy Act of 1974 (5 U.S.C. 552a) except for publication of a notice in the Federal Register. NARA publishes a notice of the records newly transferred to the National Archives of the United States which were maintained by the originating agency as a system of records subject to the Privacy Act.

FOR FURTHER INFORMATION CONTACT: Dr. Michael Kurtz, Assistant Archivist for Records Services, Washington, DC, on (301) 713-7000.

SUPPLEMENTARY INFORMATION: In accordance with section (l)(1)(3) of the Privacy Act, archival records transferred from executive branch agencies to the National Archives of the United States are not subject to the provisions of the Act relating to access, disclosure, and amendment. The Privacy Act does require that a notice appear in the Federal Register when executive branch systems of records retrievable by personal identifiers are transferred to the National Archives of the United States. After transfer of records retrievable by personal identifiers to the National Archives of the United States, NARA does not maintain these records as a separate system of records. NARA will attempt to locate specific records about an individual in any system of records described in a Privacy Act Notice as being part of the National Archives of the United States. Furthermore, records in the National Archives of the United States may not be amended, and NARA will not consider any requests for amendment.

Archival records maintained by NARA are arranged by Record Group depending on the agency of origin. Within each Record Group, the records are arranged by series, thereunder generally by filing unit, and thereunder by document or groups of documents. The arrangement at the series level or below is generally the one used by the originating agency. Usually, a system of records corresponds to a series.

In this notice, each system is identified by the system name used by the executive branch agency that accumulated the records. That system name is followed by information in parentheses about the National Archives Record Group to which records in the system have been allocated. In the section of the notice covering categories of records in the system, the specific segment of the system transferred to the National Archives of the United States is identified by the accession number assigned to the system segment when it was transferred to the National Archives and the series title associated with the system in the National Archives. The following systems of records, or parts thereof, retrievable by personal identifiers have been transferred to the National Archives since the last notice published at 61 FR 36573, (December 8, 1998):

1. System name:

Central Criminal Division Index File and Associated Records, JUSTICE/CRM-001 (part of National Archives Record Group 60, General Records of the Department of Justice).

System location:

National Archives at College Park, 8601 Adelphi Road, College Park, MD 20740-6001.

Categories of individuals covered by the system:

Records in the National Archives cover persons referred to in potential or actual cases and matters of concern to the Criminal Division and correspondents on subjects directed or referred to the Criminal Division.

Categories of records in the system:

Records in the National Archives covered by this notice include: (1) 146-7-3672 General Suspects Files on Ezra Pound, 1939-1958 (NARA Accession NN3-060-099-002); (2) 146-28-0 through 146-28-2028 Treasonable Utterances, 1941-1955 (NARA Accession NN3-060-099-003); (3) 146-200-2 Investigation of Government Employees for contract with subversive organizations, 1941-1950 (NARA Accession NN3-060-099-004); (4) 146-28-2203 through 146-28-2490 Treasonable Utterances, Korean War POW's, 1952-1956 (NARA Accession NN3-060-099-005); (5) microfilm cassettes of general name index cards consisting of 214 cassettes alphabetically by name and 30 cassettes numerically by classification number, 1930-1984 (NARA Accession NN3-060-099-006); (6) Department of Justice subject files and enclosures (litigation case files), 1930-1987 (NARA Accession Numbers NN3-060-099-008, and NN3-060-099-011); (7) Department of Justice security classified subject files and enclosures (litigation case files), 1930-1987 (NARA Acession Numbers NN3-060-099-009, and NN3-060-099-010); (8) N1-60-88-11, Class 118982-Diplomatic Immunity, 1941-1966 (NARA Accession Number NN3-060-00-004); (9) N1-60-88-10, Class 95, Miscellaneous Criminal Cases. This class covers a wide variety of subjects; these boxes contain records relative to desecration of the flag, crash of National Airlines Flight 967, destruction of aircraft or motor vehicle, blocking of interstate highways by trucks, and April riots—campus disorders, 1913-1970 (NARA Accession NN3-060-00-018); (10) N1-60-88-10, class 72, elections and political activity. Offenses relating to elections and political activity, including irregularities in federal elections, violations of the Hatch Act, Federal Corrupt Practices Act, regulation of lobbying act and civil rights acts, and voting rights, 1963-1969 (NARA Accession NN3-060-00-026); (11) N1-60-88-10, Class Hazardous Substances, Selective Service, patents, copyrights, custom violations, Federal Security Act, National Recovery Act, and kickback from public works employees, 1938-1969 (NARA Accession NN3-060-00-028); (12) N1-60-88-10, Class 123A—Anti-Racketeering Act. Cases brought under the Anti-Racketeering Act includes correspondence concerning organized crime and union activities, 1958-1971 (NARA Accession NN3-060-00-007); (13) N1-60-88-10, Class 82-Communications Act. Cases brought under the Radio Act and the Federal Communications Act, 1961-1970 (NARA Accession NN3-060-00-008); (14) N1-60-88-10, Class 72—Elections and Political Activity. Offenses relating to elections and political activity, including irregularities in federal elections, violations of the Hatch Act, and reporting of congressional campaign expenditures, 1938-1970 (NARA Accession NN3-060-00-009); (15) N1-60-88-12, Class 90—Lands. Cases concerning fire trespass upon federal land; reserved land cases; and crimes and depredations committed on federal land (including murder and rape within Indian reservations), 1942-1970 (NARA Accession NN3-060-00-010); (16) N1-60-88-10, Class 72—Elections and Political Activity. Cases concerning irregularities in federal elections, violations of the Hatch Act, and reporting of expenditures in connection with congressional political campaigns, 1934-1965 (NARA Accession NN3-060-00-011); (17) N1-60-88-10, Class 75—Eight Hour Law and Class 80A—Firearms Act. Cases concerning violations of the Eight Hour Law on public works, The National Firearms Act, and other federal gun control legislation, 1940-1970 (NARA Accesssion NN3-060-00-012); (18) N1-60-88-10, Class 164—Interstate Transmission of wagering information. Cases brought under legislation prohibiting the transmission of wagering information, 1961-1969 (NARA Accesssion NN3-060-00-013); (19) N1-60-88-13, Classes 146-13, 146-19, 146-21, 146-28, 146-29. Cases concerning alien enemy, censorship, trespassing on restricted defense areas, treasonable utterances, and subversive activities of non-enemy aliens, 1941-1970 (NARA Accession NN3-060-00-014); (20) N1-60-88-10, Class 120—Commodity Credit Corporation, International Wheat Agreement; 121—Kickback from Public Works Employees; 122—National Stolen Property Act; and 126—Fugitive Felon Act, 1953-1970 (NARA Accession NN3-060-00-015); (21) N1-60-88-10, Class 82—Communications Act. Cases brought under the Radio Act and the Federal Communications Act, 1927-1969 (NARA Accession NN3-060-00-016); (22) N1-60-88-13, Class 146-12-Export Control; 146-16—Prisoners of War; 146-20A—Transfer of Vessels to Aliens, 1942-1968 (NARA Accession NN3-060-00-017); (23) 146-7-51-1708 General Subjects Radio broadcasts made by Mildred Gillars (Axis Sally) and Grand Jury testimony. Records pertaining to Mildred Gillars previously sent under NARA Accession NN3-060-099-003, 1941-1955 (NARA Accession NN3-060-00-019); (24) 146-7-62-807—146-7-77-42 General Suspects Files on Smith Act Violations—conspiring to teach and advocate the overthrowing of the government of the U. S. by force and violence (Joseph Kuzma and James Frederick Forrest), 1941-1960 (NARA Accesssion NN3-060-00-020); (25) 146-7-5130 General Suspects Files on Smith Act Violations—Communist Party infiltration of the United Electrical, Radio and Mechanical Workers of American Union, 1944-1960 (NARA Accession NN3-060-00-021); (26) 146-7-328 through 146-7-1603 Nazi Party, German Organizations WWII (German Bund Activities, August Klapprott, Alexander Trachtenberg, John Falk, Nationalist Party of Puerto Rico), 1942-1958 (NARA Accession NN3-060-00-022); (27) 146-7—Citizen correspondence concerning Pro Nazi Statements, sabotage, FBI Reports and individuals accused of Fifth Column activities (includes individuals of German, Japanese, Italian extraction), 1940-1944 (NARA Accession NN3-060-00-023); (28) 146-7-523 through 146-7-1689—The records consist of a mix of subjects during and after WWII, 1941-1962 (NARA Accession NN3-060-00-024); and (29) N1-60-88-10, Class 51, Offenses against Public Justice, Bribery and Perjury. Includes betrayal of Office, conflict of interest, and obstruction of justice, 1947-1969 (NARA Accession NN3-060-00-025).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper and microform records stored in archival containers.

b. Retrievability: Retrieved by individual name.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

2. System name:

Civil Division Case File System, JUSTICE/CIV-001 (part of National Archives Record Group 60, General Records of the Department of Justice).

System location:

National Archives at College Park, 8601 Adelphi Road, College Park, MD 20740-6001.

Categories of individuals covered by the system:

Records in the National Archives cover individuals referenced in potential or actual cases and matters under the jurisdiction of the Civil Division; and attorneys, paralegals, and other employees of the Civil Division directly involved in these cases or matters.

Categories of records in the system:

Records in the National Archives covered by this notice include discovery documents and related indexes created for use in association with the government's case against Exxon Corporation in regards to the Exxon Valdez Diaster, 03/31/1989-12/19/1996 (NARA Accession NN3-060-00-029); Department of Justice security classified enclosures to subject files (litigation case files), 1930-1987 (NARA Accession NN3-060-099-010); and Department of Justice subject files and enclosures (litigation case files), 1930-1987 (NARA Accession Numbers NN3-060-099-008, and NN3-060-099-011).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper records stored in archival containers; and electronic database stored on magnetic tape.

b. Retrievability: Retrieved by file number.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

3. System name:

Panama Canal Commission Board of Directors Biographical and Correspondence Files, PCC/WO/AE-2 (part of National Archives Record Group 185, Records of the Panama Canal).

System location:

National Archives at College Park, 8601 Adelphi Road, College Park, MD 20740-6001.

Categories of individuals covered by the system:

Records in the National Archives cover members of the Panama Canal Commission Board of Directors.

Categories of records in the system:

Records in the National Archives covered by this notice include Board of Director files, including meetings, biographies, photos, and correspondence, 1980-1999 (NARA Accession Numbers NN3-185-00-007 and NN3-185-00-017).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper records stored in archival containers.

b. Retrievability: Retrieved alphabetically by name of board member.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

4. System name:

General Files of the Panama Canal Commission, PCC/AMRM-1 (part of National Archives Record Group 185, Records of the Panama Canal).

System location:

National Archives at College Park, 8601 Adelphi Road, College Park, MD 20740-6001.

Categories of individuals covered by the system:

Records in the National Archives cover individuals who are the subject of correspondence or who correspond with the Office of the Administrator and staff offices on a variety of subjects related to the operation, maintenance, and protection of the Panama Canal.

Categories of records in the system:

Records in the National Archives covered by this notice include correspondence reading files for the offices of the Administrator and Deputy Administrator of the Panama Canal Commission, 1979-1996 (NARA Accession NN3-185-099-004).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper records stored in archival containers.

b. Retrievability: Retrieved alphabetically by name.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

5. System name:

Records of Births, Deaths, and Marriages that occurred in the former Canal Zone, PCC/AMRM-7 (part of National Archives Record Group 185, Records of the Panama Canal).

System location:

National Archives at College Park, 8601 Adelphi Road, College Park, MD 20740-6001.

Categories of individuals covered by the system:

Records in the National Archives cover individuals who were married in the former Canal Zone.

Categories of records in the system:

Records in the National Archives covered by this notice include clergy marriage registration books containing abstracted information on Canal Zone marriages recorded by the officiating clergy, 1904-1979 (NARA Accession NN3-185-098-008).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper records stored in archival containers; and index cards on microfilm.

b. Retrievability: Retrieved by name, date of birth, death, or marriage, and number of certificate.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

6. System name:

Correspondence Files and Correspondence Control Files—Treasury/IRS 00.001 (part of National Archives Record Group 58, Records of the Internal Revenue Service).

System location:

National Archives at College Park, 8601 Adelphi Road, College Park, MD 20740-6001.

Categories of individuals covered by the system:

Records in the National Archives cover initiators of the correspondence; persons upon whose behalf the correspondence was initiated; and subjects of the correspondence.

Categories of records in the system:

Records in the National Archives covered by this notice include organizational history files, 1929-1990 (Nara Accession NN3-058-099-001); strategic planning documentation, 1953-1990 (NARA Accession NN3-058-099-002); historian records, 1980's-1990's (NARA Accession NN3-058-099-003); legislative affairs records, 1970's-1990's (NARA Accession NN3-058-099-004); planning division/internal management records, 1950's-1990's (NARA Accession NN3-058-099-005); public affairs/problem resolution records/publishing services, 1950's-1990's (NARA Accession NN3-058-099-006); chief counsel records, 1930's-1990's (NARA Accession NN3-058-099-007); information systems/data processing records, 1960's-1990's (NARA Accession NN3-058-099-008); reports and studies, 1918-1980's (NARA Accession NN3-058-099-009); audio/visual records, 1980's-1990's (NARA Accession NN3-058-099-010); publications, books, and forms, 1800's-1938 (NARA Accession Numbers NN3-058-099-011 and NN3-058-099-012).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper records stored in archival containers.

b. Retrievability: Retrieved by individual name.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

7. System name:

Intelligence/Counterintelligence Source Files, A0381-100a DAMI (part of National Archives Record Group 319, Records of the Army Staff).

System location:

National Archives at College Park, 8601 Adelphi Road, College Park, MD 20740-6001.

Categories of individuals covered by the system:

Records in the National Archives cover selected individuals who qualify and may be accepted as an intelligence or counterintelligence source for the U.S. Army.

Categories of records in the system:

Records in the National Archives covered by this notice include intelligence/counterintelligence source files (JFK Collection), 1953-1977 (NARA Accession Numbers NN3-319-099-002 and NN3-319-00-004).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper and microform records stored in archival containers.

b. Retrievability: By individual name and numerically by source or project number.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

8. System name:

Counterintelligence/Security Files, A0381-20b DAMI (part of National Archives Record Group 319, Records of the Army Staff).

System location:

National Archives at College Park, 8601 Adelphi Road, College Park, MD 20740-6001.

Categories of individuals covered by the system:

Records in the National Archives cover military and civilian personnel associated with the U.S. Army; and industrial or contractor personnel working in private industry which have contracts involving classified Department of Defense (DOD) information.

Categories of records in the system:

Records in the National Archives covered by this notice include Counterintelligence/Security Investigations (JFK Collection), 1953-1977 (NARA Accession NN3-319-099-006); U.S. POW/MIA/Detainee Intelligence, 1945-1975 (NARA Accession Numbers NN3-319-099-001, NN3-319-099-007, NN3-319-099-009, NN3-319-00-010, NN3-319-00-011, NN3-319-00-024, NN3-319-00-028, NN3-319-00-030, and NN3-319-00-031); and Counterintelligence/Security Investigations, 1952-1994 (NARA Accession Numbers NN3-319-099-008, NN3-319-00-005, NN3-319-00-025, NN3-319-00-029, and NN3-319-00032).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper, microform and photographic records stored in archival containers.

b. Retrievability: Retrieved by name, aliases, or title in combination with social security number or regular dossier number.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

9. System name:

Personnel Security Clearance Information Files, A0380-67 DAMI (part of National Archives Record Group 319, Records of the Army Staff).

System location:

National Archives at College Park, 8601 Adelphi Road, College Park, MD 20740-6001.

Categories of individuals covered by the system:

Records in the National Archives cover any individual, civilian or military, affiliated with the U.S. Army by assignment, employment, contractual relationship, or as the result of an interservice support agreement on whom a personnel security clearance determination has been completed, is in process, or may be pending.

Categories of records in the system:

Records in the National Archives covered by this notice include Counterintelligence/Security Investigations (JFK Collection), 1953-1977 (NARA Accession NN3-319-099-006); U.S. POW/MIA/Detainee Intelligence, 1945-1975 (NARA Accession Numbers NN3-319-099-001, NN3-319-099-007, NN3-319-099-009, NN3-319-00-010, NN3-319-00-011, NN3-319-00-024, NN3-319-00-028, NN3-319-00-030, and NN3-319-00-031); and Counterintelligence/Security Investigations, 1952-1994 (NARA Accession Numbers NN3-319-099-008, NN3-319-00-005, NN3-319-00-025, NN3-319-00-029, and NN3-319-00-032).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper, microform and photographic records stored in archival containers.

b. Retrievability: Retrieved alphabetically by individual's surname or social security number.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

10. System name:

NCIS Investigative Files System, N05520-4 (part of National Archives Record Group 526, Records of the Naval Criminal Investigative Service).

System location:

National Archives at College Park, 8601 Adelphi Road, College Park, MD 20740-6001.

Categories of individuals covered by the system:

Records in the National Archives cover individuals who require access to classified defense information and others who are of criminal, counterintelligence, security or general investigative interest to NCIS.

Categories of records in the system:

Records in the National Archives covered by this notice include Historical Matters Records (records covering a broad range of topics that document the history of the Naval Criminal Investigative Service and its predecessor; security related topics from offices within Office of Naval Intelligence; and security, counterintelligence, investigative, and other topics undertaken by Naval Intelligence and the District Intelligence Offices (DIO)), 1935-1977 (NARA Accession Numbers NN3-526-099-001, NN3-526-099-002, and NN3-526-099-003); POW/MIA Intelligence Files: These records contain information concerning the U.S.S. Pueblo that was captured on January 23, 1968 off the coast of North Korea and commercial news broadcast (U.S. and foreign), crew member “confession” press reports and interviews of crew members and Mrs. Bucher, 1968-1971 (NARA Accession NN3-526-099-004); and Major Investigations: These records contain closed case investigations of alleged espionage, subversion, sabotage and other security related investigations conducted primarily during the Vietnam Conflict period, 1958-1975 (NARA Accession NN3-526-099-005).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper and photographic records stored in archival containers.

b. Retrievability: Retrieved by numeric sequential number and alphabetically by topical title, and geographic location.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

11. System name:

Population and Housing Census Records of the 1960 and Subsequent Censuses-Commerce/Census-5 (part of National Archives Record Group 29, Records of the Bureau of the Census).

System location:

National Archives at College Park, 8601 Adelphi Road, College Park, MD 20740-6001.

Categories of individuals covered by the system:

Records in the National Archives cover all individuals counted during the Censuses of Population and Housing taken in 1960 and later.

Categories of records in the system:

Records in the National Archives covered by this notice include census of population and housing sample and one hundred-percent edited detail files for states, Puerto Rico and outlying areas, 1980 (NARA Accession Numbers NN3-029-099-010 and NN3-029-099-011); decennial census of population and housing sample edited detail tape files, 1960 (NARA Accession NN3-029-00-022); and decennial census of population and housing one hundred-percent and twenty-percent sample edited detail files for states, Puerto Rico, and outlying areas, 1970 (NARA Accession Numbers NN3-029-099-012, NN3-029-099-013, and NN3-029-099-014).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Electronic database stored on magnetic tape.

b. Retrievability: Retrieved by the use of unique serial identification numbers internal to the Bureau of the Census.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

12. System name:

Army History Files, A0228.01 DAMH (part of National Archives Record Group 338, Records of U.S. Army Commands, 1942-).

System location:

National Archives at College Park, 8601 Adelphi Road, College Park, MD 20740-6001.

Categories of individuals covered by the system:

Records in the National Archives cover military and civilian personnel associated with the Army; individuals who offer historically significant items or gifts of money to the Army Museum System.

Categories of records in the system:

Records in the National Archives covered by this notice include Command Historian's Files, 1915-1999 (NARA Accession NN3-338-099-014).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper records stored in archival containers.

b. Retrievability: Retrieved by individual's name.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

13. System name:

Counterintelligence/Security Files, A0381-20b DAMI (part of National Archives Record Group 338, Records of U.S. Army Commands, 1942-)

System location:

National Archives at College Park, 8601 Adelphi Road, College Park, MD 20740-6001.

Categories of individuals covered by the system:

Records in the National Archives cover military and civilian personnel associated with the U.S. Army; and industrial or contractor personnel working in private industry which have contracts involving classified Department of Defense (DOD) information.

Categories of records in the system:

Records in the National Archives covered by this notice include Counterintelligence/Security Investigations, 1949-1972 (NARA Accession Numbers NN3-338-099-004 and NN3-338-00-002); and POW/MIA Detainee Intelligence, 1944-1986 (NARA Accession Numbers NN3-338-099-005, NN3-338-099-015, and NN3-338-00-001).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper, microform and photographic records stored in archival containers.

b. Retrievability: Retrieved by name, aliases, or title in combination with social security number or regular dossier number.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

14. System name:

Personnel Security Clearance Information Files, A0380-67 DAMI (part of National Archives Record Group 338, Records of U.S. Army Commands, 1942-).

System location:

National Archives at College Park, 8601 Adelphi Road, College Park, MD 20740-6001.

Categories of individuals covered by the system:

Records in the National Archives cover any individual, civilian or military, affiliated with the U.S. Army by assignment, employment, contractual relationship, or as the result of an interservice support agreement on whom a personnel security clearance determination has been completed, is in process, or may be pending.

Categories of records in the system:

Records in the National Archives covered by this notice include Counterintelligence/Security Investigations, 1949-1972 (NARA Accession Numbers NN3-338-099-004 and NN3-338-00-002); and U.S. POW/MIA Detainee Intelligence, 1944-1986 (NARA Accession Numbers NN3-338-099-005, NN3-338-099-015, and NN3-338-00-001).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper, microform and photographic records stored in archival containers.

b. Retrievability: Retrieved alphabetically by individual's surname or social security number.

c. Safeguards: Records are kept in locked stack areas accessible only to authorized NARA personnel.

d. Retention and disposal: Records are retained permanently.

System manager and address:

The system manager is the Assistant Archivist for Records Services-Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

15. System name:

Health and Demographic Surveys Conducted in Probability Samples of the U. S. Population, HHS/OASH/NCHS, 09-20-0164 (part of National Archives Record Group 442, Records of the Centers for Disease Control and Prevention).

System location:

National Archives at College Park, 8601 Adelphi Road, College Park, MD 20740-6001.

Categories of individuals covered by the system:

Records in the National Archives cover individuals and members of households selected by probability sampling techniques to be representative of the civilian population of the United States.

Categories of records in the system:

Records in the National Archives covered by this notice include National Health Examination Surveys, Cycles I, II, and III (NHES I, II, and III) data tapes and documentation, 1959-1970 (NARA Accession Numbers NN3-442-099-001, NN3-099-002, and NN3-442-099-003); First and Second National Health and Nutrition Examination Surveys (NHANES I and II) data tapes and documentation, 1971-1980 (NARA Accession Numbers NN3-442-099-004 and NN3-442-099-005); and Hispanic Health and Nutrition Examination Survey (HHANES) data tapes and documentation, 1982-1984 (NARA Accession NN3-442-099-006).

Routine uses of records maintained in the system, including categories of users and the purpose of such uses:

Reference by Government officials, scholars, students, and members of the general public. The records in the National Archives of the United States are exempt from the Privacy Act of 1974 except for the public notice required by 5 U.S.C. 552a (l) (1)(3). Further information about uses and restrictions may be found in 36 CFR part 1256 and in the Appendix following this notice.

Policies and practices for storing, retrieving, accessing, retaining, and disposing of records in the system:

a. Storage: Paper records stored in archival containers; and electronic database stored on magnetic tape.

b. Retrievability: Retrieved by serial number cross-indexed to the original, individually identifiable record.

c. Safeguards: Records are kept in locked stack areas accessible only to authorized NARA personnel.

d. Retention and disposal: Records are retained permanently.

System manager and address:

The system manager is the Assistant Archivist for Records Services-Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

16. System name:

Special Use Permits, Easements, and Licenses, USDA/FS-24 (part of National Archives Record Group 95, Records of the Forest Service).

System location:

National Archives, Pacific Alaska Region (Seattle), 6125 Sand Point Way, N.E., Seattle, WA 98115.

Categories of individuals covered by the system:

Records in the National Archives cover individuals holding a special use permit, easement or license authorizing use or occupancy of National Forest System land or land administered for National Forest purposes.

Categories of records in the system:

Records in the National Archives covered by this notice include special use permits, 1943-1966 (NARA Accession NRIS-095-099-031).

Routine uses of records maintained in the system, including categories of users and the purpose of such uses:

Reference by Government officials, scholars, students, and members of the general public. The records in the National Archives of the United States are exempt from the Privacy Act of 1974 except for the public notice required by 5 U.S.C. 552a (l) (1)(3). Further information about uses and restrictions may be found in 36 CFR part 1256 and in the Appendix following this notice.

Policies and practices for storing, retrieving, accessing, retaining, and disposing of records in the system:

a. Storage: Paper records stored in archival containers.

b. Retrievability: Retrieved alphabetically by permittee's name and date of permit issuance or other field.

c. Safeguards: Records are kept in locked stack areas accessible only to authorized NARA personnel.

d. Retention and disposal: Records are retained permanently.

System manager and address:

The system manager is the Assistant Archivist for Regional Records Services (NR), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

17. System name:

Office of Alien Property File System, JUSTICE/CIV-003 (part of National Archives Record Group 131, Records of the Office of Alien Property).

System location:

National Archives at College Park, 8601 Adelphi Road, College Park, MD 20740-6001.

Categories of individuals covered by the system:

Records in the National Archives cover any and all parties involved in the cases, claims and matters handled by the Office of Alien Property.

Categories of records in the system:

Records in the National Archives covered by this notice include records of the Office of Alien Property, 1941-1963 (NARA Accession Numbers NN3-131-099-001 and NN3-131-099-002).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper records stored in archival containers.

b. Retrievability: Retrieved by indexed file numbers.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

18. System name:

Military Personnel Records System, F035 AF MP C (part of National Archives Record Group 518, Records of U.S. Central Command).

System location:

National Archives at College Park, 8601 Adelphi Road, College Park, MD 20740-6001.

Categories of individuals covered by the system:

Records in the National Archives cover Air Force active duty military, Air Force Reserve and Air National Guard personnel.

Categories of records in the system:

Records in the National Archives covered by this notice include operational analyses, 1989-1992 (NARA Accession Numbers NN3-518-099-001 and NN3-518-00-001).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper records stored in archival containers.

b. Retrievability: Retrieved alphabetically by individual's surname and social security number.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

19. System name:

National Crime Information Center (NCIC), JUSTICE/FBI 001 (part of National Archives Record Group 65, Records of the Federal Bureau of Investigation).

System location:

National Archives at College Park, 8601 Adelphi Road, College Park, MD 20740-6001.

Categories of individuals covered by the system:

Records in the National Archives cover individuals for whom Federal warrants are outstanding; individuals who have committed or have been identified with an offense which is classified as a felony or serious misdemeanor; a “Temporary Felony Want” to take prompt action for a suspected felon; juveniles who have been adjudicated delinquent; individuals who have committed an offense in a foreign country and for which act an extradition treaty exists between the United States and that country; individuals identified with an offense committed in Canada which meets the requirements of the Canada-U.S. Extradition Treaty, 18 U.S.C. 3184; and individuals designated by the U.S. Secret Service as posing a potential danger to the President or other authorized protectees.

Categories of records in the system:

Records in the National Archives covered by this notice include records responsive to Nazi War Crimes Disclosure Act, 1917-1969 (NARA Accession NN3-065-00-004).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper records stored in archival containers.

b. Retrievability: Retrieved alphabetically by name or by identification number.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

20. System name:

Claim Files—Interior, Office of the Solicitor-2, INTERIOR/SOL-2 (part of National Archives Record Group 48, Records of the Office of the Secretary of the Interior).

System location:

National Archives and Records Administration-Pacific Northwest Region (Seattle), 6125 Sand Point Way, NE, Seattle, WA 98115.

Categories of individuals covered by the system:

Records in the National Archives cover individuals who have filed Tort, Federal Employee, Admiralty or Irrigation claims.

Categories of records in the system:

Records in the National Archives covered by this notice include tort claims, 1988-1993 (NARA Accession NRIS-048-00-002).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper records stored in archival containers.

b. Retrievability: Retrieved by name of claimant.

c. Safeguards: Records are kept in locked stack areas accessible only to authorized NARA personnel.

d. Retention and disposal: Records are retained permanently.

System manager and address:

The system manager is the Assistant Archivist for Regional Records Services (NR), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

21. System name:

NCIS Investigative Files System, N05520-4 (part of National Archives Record Group 289, Records of the Naval Intelligence Command).

System location:

National Archives at College Park, 8601 Adelphi Road, College Park, MD 20740-6001.

Categories of individuals covered by the system:

Records in the National Archives cover individuals who require access to classified defense information and others who are of criminal, counterintelligence, security or general investigative interest to NCIS.

Categories of records in the system:

Records in the National Archives covered by this notice include primary program records, files consisting of incoming and outgoing correspondence on Communist Party activities in the maritime industry, and issues concerning employment, 1936-1954 (NARA Accession NN3-289-099-001).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Paper records stored in archival containers.

b. Retrievability: Retrieved by numeric sequential number and alphabetically by topical title, and geographic location.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

22. System name:

General Personnel Records, OPM/GOVT-1 (part of National Archives Record Group 478, Records of the Office of Personnel Management).

System location:

National Archives at College Park, 8601 Adelphi Road, College Park, MD 20740-6001.

Categories of individuals covered by the system:

Records in the National Archives cover current and former Federal employees as defined in 5 U.S.C. 2105.

Categories of records in the system:

Records in the National Archives covered by this notice include an electronic database of personal and employment related information on Federal employees; the Central Personnel Data File (CPDF), 1987 (NARA Accession NN3-478-099-001).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Electronic database stored on magnetic tape.

b. Retrievability: Retrieved by various combinations of name, birth date, social security number, or identification number of the individual on whom they are maintained.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

23. System name:

Current Research Information System (CRIS), USDA/CSRS (part of National Archives Record Group 540, Records of the Cooperative State Research, Education, and Extension Service).

System location:

National Archives at College Park, 8601 Adelphi Road, College Park, MD 20740-6001.

Categories of individuals covered by the system:

Records in the National Archives cover scientists listed on research projects entered into the CRIS.

Categories of records in the system:

Records in the National Archives covered by this notice include the Current Research Information System (CRIS) File, 1998 (NARA Accession NN3-540-00-001).

Routine uses of records maintained in the system, including categories of users and the purpose of such uses:

Reference by Government officials, scholars, students, and members of the general public. The records in the National Archives of the United States are exempt from the Privacy Act of 1974 except for the public notice required by 5 U.S.C. 552a(l)(1)(3). Further information about uses and restrictions may be found in 36 CFR part 1256 and in the Appendix following this notice.

Policies and practices for storing, retrieving, accessing, retaining, and disposing of records in the system:

a. Storage: Electronic database stored on magnetic tape.

b. Retrievability: Retrieved by name of project leader or co-investigator.

c. Safeguards: Records are kept in locked stack areas accessible only to authorized NARA personnel.

d. Retention and disposal: Records are retained permanently.

System manager and address:

The system manager is the Assistant Archivist for Records Services, Washington, DC (NW), 8601 Adelphi Road, College Park, MD 20740-6001.

Notification procedures:

Individuals desiring information from or about these records should direct inquiries to the system manager.

Records access procedures:

Upon request, NARA will attempt to locate specific records about individuals and will make the records available subject to the restrictions set forth in 36 CFR part 1256. Enough information must be provided to permit NARA to locate the records in a reasonable amount of time. Records in the National Archives may not be amended and requests for amendment will not be considered. More information regarding access procedures is available in the Guide to the National Archives of the United States, which is sold by the Superintendent of Public Documents, Government Printing Office, Washington, DC 20402, and may be consulted at the NARA research facilities listed in 36 CFR part 1253.

Dated: January 31, 2001.
Michael J. Kurtz,
Assistant Archivist for Records Services, Washington, DC.

Appendix

General Statement About Uses and Restrictions

A record from an accessioned system of records may be made available to any person who has applied for and received a researcher identification card. No special qualifications are required in order to use the records of the National Archives. Rule governing the use of records and procedures for applying for research cards are found in 36 CFR part 1254. However, the use of some of the records is subject to restrictions imposed by statute or Executive order, or by the restrictions specified in writing in accordance with 44 U.S.C. 2108 by the transferring agency. Restrictions currently in effect on access to particular records that have been specified by the transferring agency are known as “specific restrictions.” Restrictions on access that may apply to more than one record group are termed “general restrictions.” They are applicable to the kinds of information or classes of accessioned records designated regardless of the record group to which they have been allocated or the specific system of records in which they are contained. The restrictions are published in the “Guide to the National Archives of the United States” and supplemented by restriction statements approved by the Archivist of the United States and set forth in 36 CFR part 1256.

[FR Doc. 01-3102 Filed 2-6-01; 8:45 am]

BILLING CODE 7515-01-P